FEDERAL MARITIME COMMISSION

Ocean Transportation Intermediary License; Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
004471F | B.R.A.L. Miami, Inc., 7766 NW., 46th Street, Miami, FL 3316 | April 17, 2005.
014151N | Continental Consolidating Corporation, 8507 NW., 72nd Street, Miami, FL 33166 | April 20, 2005.
015490N | Max Cargo, Inc., 9111 S. La Cienega Blvd., #104, Ste. 107, Inglewood, CA 90301 | April 30, 2005.
011170F | Sage Freight System Inc., dba Sage Container Lines, 182-130 150th Road, Room 108, Jamaica, NY 11413 | April 8, 2005.
016528NF | Uni International, America Corp., dba Unistar Lines, 4615 Gulf Blvd., Suite 116, St. Petersburg, FL 33706 | February 5, 2005.

Sandra L. Kusumoto,
Director, Bureau of Certification and Licensing.

[FR Doc. 05-9930 Filed 5-17-05; 8:45 am]

BILLING CODE 6730-01-P